DEPARTMENT OF COMMERCE

International Trade Administration

[A-557-821]

Utility Scale Wind Towers From Malaysia: Final Results of Antidumping Duty Administrative Review; 2021-2022

AGENCY: Enforcement and Compliance, International Trade Administration, Department of Commerce.

SUMMARY: The U.S. Department of Commerce (Commerce) determines that utility scale wind towers (wind towers) from Malaysia were sold in the United States at less than normal value during the period of review (POR), October 13, 2021, through November 30, 2022.

DATES: Applicable July 10, 2024.

FOR FURTHER INFORMATION CONTACT: Staren Pierce, AD/CVD Operations, Office V, Enforcement and Compliance, International Trade Administration, U.S. Department of Commerce, 1401 Constitution Avenue NW, Washington, DC 20230; telephone: (202) 482-4533.

SUPPLEMENTARY INFORMATION:

Background

On January 4, 2024, Commerce published the Preliminary Results of this administrative review and invited interested parties to comment on the Preliminary Results.¹ This administrative review covers one company,² CS Wind Malaysia Sdn Bhd and its parent company, CS Wind Corporation (collectively, CS Wind).³ On May 6, 2024, Commerce held a public hearing limited to the issues raised in the case and rebuttal briefs.⁴ On May 31, 2024, Commerce fully extended the deadline for issuing the final results until July 2, 2024.⁵ For a complete description of the events that occurred since the Preliminary Results, see the Issues and Decision Memorandum.⁶

¹ See Utility Scale Wind Towers from Malaysia: Preliminary Results of Antidumping Duty Administrative Review; 2021-2022, 89 FR 461 (January 4, 2024) (Preliminary Results), and accompanying Preliminary Decision Memorandum.

² See Initiation of Antidumping and Countervailing Duty Administrative Reviews, 88 FR 7060 (February 2, 2023).

³ In the less-than-fair-value (LTFV) investigation of utility scale wind towers from Malaysia, Commerce determined that CS Wind Malaysia Sdn Bhd and CS Wind Corporation are a single entity. See Utility Scale Wind Towers from Malaysia: Preliminary Determination of Sales at Not Less Than Fair Value and Postponement of Final Determination, 86 FR 27828 (May 24, 2021), unchanged in Utility Scale Wind Towers from Malaysia: Final Affirmative Determination of Sales at Less Than Fair Value, 86 FR 56894 (October 13, 2021).

⁴ See Transcript, “Public Hearing,” dated May 13, 2024; see also Memorandum, “Hearing Schedule,” dated April 25, 2024.

⁵ See Memorandum, “Extension of Deadline for Final Results of Antidumping Duty Administrative Review,” dated May 31, 2024.

⁶ See Memorandum, “Decision Memorandum for the Final Results of the Administrative Review of the Antidumping Duty Order: Utility Scale Wind Towers from Malaysia; 2021-2022,” dated concurrently with, and hereby adopted by, this notice (Issues and Decision Memorandum).

Commerce conducted this administrative review in accordance with section 751 of the Tariff Act of 1930, as amended (the Act).

Scope of the Order ⁷

⁷ See Utility Scale Wind Towers from India and Malaysia: Antidumping Duty Orders, 86 FR 69014 (December 6, 2021) (Order).

The products covered by this Order are wind towers from Malaysia. Merchandise covered by this order is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of this order is dispositive. For a full description of the scope, see the Issues and Decision Memorandum.

Analysis of Comments Received

All issues raised in the case and rebuttal briefs are addressed in the Issues and Decision Memorandum. A list of the issues that parties raised and to which we responded in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties, we made certain changes to the margin calculation for these final results. For a detailed discussion of these changes, see the Issues and Decision Memorandum.

Final Results of Review

Commerce determines that the following weighted-average dumping margin exists for the period October 13, 2021, through November 30, 2022:

Exporter or producer | Weighted- average dumping margin (percent)
CS Wind Corporation/CS Wind Malaysia Sdn Bhd | 18.02

Disclosure

Commerce intends to disclose under administrative protective order (APO) to interested parties the calculations performed in connection with the final results within five days of the date of publication of the notice of final results in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries covered by this review. Because CS Wind's weighted-average dumping margin is not zero or de minimis (i.e., less than 0.5 percent), Commerce has calculated importer-specific antidumping duty assessment rates based on the ratio of the total amount of dumping calculated for the examined sales to the total entered value of the sales. Where the importer's weighted-average assessment rate is either zero or de minimis (i.e., less than 0.5 percent), we will instruct CBP to liquidate the appropriate entries without regard to antidumping duties. For entries of subject merchandise during the POR produced by CS Wind for which it did not know its merchandise was destined for the United States, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

We intend to instruct CBP to take into account the “provisional measures deposit cap,” in accordance with 19 CFR 351.212(d). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for CS Wind will be equal to the weighted-average dumping margin established in the final results of this administrative review; (2) for merchandise exported by a company not covered in this administrative review but covered in a prior completed segment of the proceeding, the cash deposit rate will continue to be the company-specific rate published for the most recently completed segment of this proceeding; (3) if the exporter is not a firm covered in this review, a prior review, or the original LTFV investigation, but the producer is, the cash deposit rate will be the rate established for the most recently completed segment of this proceeding for the producer of the subject merchandise; and (4) the cash deposit rate for all other producers and exporters will continue to be 0.00 percent, the all-others rate established in the LTFV investigation, adjusted for the export-subsidy rate in the companion countervailing duty investigation.⁹ These cash deposit requirements, when imposed, shall remain in effect until further notice.

⁹ See Order at 69015.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: July 2, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. Changes Since the Preliminary Results

V. Discussion of the Issues

Comment 1: CS Wind's Shutdown Cost Adjustment

Comment 2: Constructed Value (CV) Profit and Selling Expenses

VI. Recommendation

[FR Doc. 2024-15102 Filed 7-9-24; 8:45 am]

BILLING CODE 3510-DS-P